ENVIRONMENTAL PROTECTION AGENCY

[ER-FRL-9037-9]

Environmental Impact Statements; Notice of Availability

Responsible Agency: Office of Federal Activities, General Information (202) 564-7156 or http://www2.epa.gov/nepa.

Weekly receipt of Environmental Impact Statements

Filed 02/19/2018 Through 02/23/2018

Pursuant to 40 CFR 1506.9.

Notice

Section 309(a) of the Clean Air Act requires that EPA make public its comments on EISs issued by other Federal agencies. EPA's comment letters on EISs are available at: http://cdxnodengn.epa.gov/cdx-nepa-public/action/eia/search.

EIS No. 20180025, Final Supplement, FTA, CA, VTA's BART Silicon Valley Phase II Extension Project. Review Period Ends: 04/02/2018, Contact: Mary Nguyen 213-202-3960.

EIS No. 20180026, Final, USFS, ID, Big Creek Geothermal Leasing Project, Review Period Ends: 04/16/2018, Contact: Julie Hopkins 208-756-5279.

EIS No. 20180027, Draft, FDA,GSA, MD, 2018 Federal Research Center Master Plan, Comment Period Ends: 04/16/2018, Contact: Paul Gyamfi 202-440-3405.

EIS No. 20180028, Final, Caltrans, CA, State Route 269 Bridge Project, Review Period Ends: 09/03/2018, Contact: Jeff Sorensen 559-445-5329.

EIS No. 20180029, Final, USACE, NC, Bogue Banks Master Beach Nourishment Plan, Review Period Ends: 04/02/2018, Contact: Mickey Sugg 910-251-4811.

EIS No. 20180030, Draft, FHWA, WA, Industrial Way/Oregon Way Intersection Project, Comment Period Ends: 04/16/2018, Contact: Liana Liu 360-753-9553.

Amended Notices

EIS No. 20170249, Draft, OSM, MT, Western Energy Company's Rosebud Mine Area F, Revision to Federal Register Notice published 01/05/2018, extending comment period from 02/20/2018 to 03/05/2018, Contact: Logan Sholar 303-293-5036.

Dated: February 27, 2018.
Kelly Knight,
Director, NEPA Compliance Division, Office of Federal Activities.

[FR Doc. 2018-04301 Filed 3-1-18; 8:45 am]

BILLING CODE 6560-50-P